DEPARTMENT OF HEALTH AND HUMAN SERVICES

Centers for Disease Control and Prevention

Interstate Quarantine; Delegation of Authority

Notice is hereby given that I have delegated to the Director, Centers for Disease Control and Prevention, with authority to redelegate, the authorities vested in the Surgeon General of the Public Health Service under 42 CFR part 70—Interstate Quarantine.

This delegation shall be exercised under the Department of Health and Human Service's existing delegation of authority and policy on regulations.

This delegation became effective upon date of signature. In addition, I have affirmed and ratified any actions taken by the Director, Centers for Disease Control and Prevention, or his subordinates which involved the exercise of the authorities delegated herein prior to the effective date of the delegation.

Dated: August 31, 2001.
David Satcher,
Surgeon General.

[FR Doc. 01-23881 Filed 9-24-01; 8:45 am]

BILLING CODE 4160-18-M